DEPARTMENT OF VETERANS AFFAIRS

Solicitations of Nominations for Appointment to the VA National Academic Affiliations Council

AGENCY: Department of Veterans Affairs.

ACTION: Notice of solicitation for nominations.

SUMMARY: The Department of Veterans Affairs (VA) is seeking nominations of qualified candidates to be considered for appointment to the VA National Academic Affiliations Council (NAAC) (hereinafter in this section referred to as “the NAAC”).

DATES: Nominations for membership on the NAAC must be received no later than 5:00 p.m. EST on June 1, 2022.

ADDRESSES: All nominations should be emailed to larissa.emory@va.gov. Please write Nomination for NAAC Membership in the subject line.

FOR FURTHER INFORMATION CONTACT: Larissa Emory, PMP, CBP, MS, Designated Federal Officer (DFO), OAA, Veterans Health Administration (VHA) at larissa.emory@va.gov. A copy of the current charter and list of current members can also be obtained by emailing larissa.emory@va.gov or (573) 797-9137.

SUPPLEMENTARY INFORMATION: The NAAC was established to provide advice and make recommendations to the Secretary of VA on matters affecting partnerships between VA and its academic affiliates. In providing advice to the Secretary and making recommendations on matters affecting partnerships between VA and its academic affiliates, the NAAC carries out the duties set forth and to operate under the provisions of the Federal Advisory Committee Act, as amended 5 U.S.C. app. 2.

Membership Criteria and Qualifications: VA is seeking nominations for NAAC membership. The NAAC is comprised of not more than 14 regular members, plus not more than 8 ex-officio Federal members. Several members may be regular Government employees, but most of the NAAC's membership shall consist of non-Federal employees, appointed by the Secretary from the general public, serving as Special Government Employees.

The expertise required of the NAAC's membership includes, but is not limited to:

(1) Individuals who are knowledgeable experts with special competence to evaluate and improve the partnership between VA and its academic affiliates.

(2) Individuals representing academic leaders of:

a. Health professions education institutions.

b. Health care industry leaders.

c. Academic and health care leaders with experience in establishing and sustaining academic affiliations and accredited health professions residency and training programs.

(3) Individuals representing National Accrediting or Professional Organizations to include but not limited to Association of American Medical Colleges (AAMC), American Association of Colleges of Pharmacy (AACP), Accreditation Council for Graduate Medical Education (ACGME), American Psychological Association (APA), Physician Assistant Education Association (PAEA), and National Hispanic Medical Association (NHMA).

Membership Requirements: The NAAC meets up to four times annually, typically once per quarter each fiscal year. Individuals selected for appointment to the NAAC shall be invited to serve an initial three-year term. After the initial term, the Secretary may reappoint members for an additional term. NAAC members will receive per diem and reimbursement for eligible travel expenses incurred.

To the extent possible, the Secretary seeks members who have diverse professional and personal qualifications including but not limited to subject matter experts in the areas described above. Nominations should include any relevant information to ensure diverse Committee membership.

Requirements for Nomination Submission

Nominations should be typed (one nomination per nominator). Nomination package should include:

(1) A letter of nomination that clearly states the name and affiliation of the nominee, the basis for the nomination (i.e., specific attributes which qualify the nominee for service in this capacity), and a statement from the nominee indicating willingness to serve as a member of the NAAC.

(2) The nominee's contact information, including name, mailing address, telephone number(s), and email address.

(3) The nominee's resume or curriculum vitae that is no more than three pages in length.

(4) A statement from the nominee attesting that he/she is not a Federal registered lobbyist.

The Department makes every effort to ensure that the membership of VA Federal Advisory Committees is diverse in terms of points of view represented and the committee's capabilities. Appointments to the NAAC shall be made without discrimination because of a person's race, color, religion, sex, sexual orientation, gender identity, national origin, age, disability, or genetic information. Nominations must state that the nominee is willing to serve as a member of the Committee and appears to have no conflict of interest that would preclude membership.

Dated: May 13, 2022.
Jelessa M. Burney,
Federal Advisory Committee Management Officer.

[FR Doc. 2022-10669 Filed 5-17-22; 8:45 am]

BILLING CODE P